DEPARTMENT OF LABOR

Employment and Training Administration

Employment and Training Administration (ETA) Program Year 2020 Workforce Innovation and Opportunity Act (WIOA) Section 167, National Farmworker Jobs Program Grantee Allotments

AGENCY: Employment and Training Administration, Labor.

ACTION: Notice.

SUMMARY: This Notice announces allotments for Program Year (PY) 2020 for the WIOA Title I Section 167 National Farmworker Jobs Program, as required under Section 182(d) of the Workforce Innovation and Opportunity Act of 2014. The Further Consolidated Appropriations Act, 2020, enacted December 20, 2019, provides $85,229,000 for formula grants and another $6,122,000 for migrant and seasonal farmworker housing (of which not less than 70 percent shall be for permanent housing). Another $545,000 will be set aside for discretionary purposes.

DATES: The PY 2020 National Farmworker Jobs Program allotments become effective for the grant period that begins July 1, 2020.

ADDRESSES: Questions on this notice can be submitted to the Employment and Training Administration, Office of Workforce Investment, 200 Constitution Ave. NW, Room C4510, Washington, DC 20210, Attention: Laura Ibañez, Unit Chief, (202) 693-3645 or Steven Rietzke, Division Chief at (202) 693-3912, or at NFJP@dol.gov. Individuals with hearing or speech impairments may access the telephone numbers above via TTY by calling the toll-free Federal Information Relay Service at 1-877-889-5627 (TTY-TDD).

SUPPLEMENTARY INFORMATION: This notice is published pursuant to Section 182(d) of the WIOA, Prompt Allotment of Funds.

ETA developed the formula for the purpose of distributing funds geographically by state service area, on the basis of each state service area's relative share of persons eligible for the program. The formula's original methodology was described in a notice published in the Federal Register on May 19, 1999 (64 FR 27390). That information is accessible at https://www.federalregister.gov/.

Beginning with PY 2018, ETA incorporated two modifications to the allotment formula, with the goal of providing more accurate estimates of each state service area's relative share of persons eligible for the program. The formula also used updated data from each of the four data files serving as the basis of the formula since 1999. The revised formula is available at https://www.federalregister.gov/documents/2018/07/11/2018-14747/employment-and-training-administration-eta-program-year-py-2018-workforce-innovation-and-opportunity. Based on the new estimates, the Department of Labor (DOL or Department) instituted a hold-harmless provision for PY 2018 and two following years. The hold-harmless provision is designed to provide a staged transition from old to new funding levels for state service areas and minimize the impact on those states incurring significant change.

I. Background

The Department is announcing final PY 2020 allotments for the National Farmworker Jobs Program (NFJP). This notice provides information on the amount of funds available during PY 2020 to state service areas awarded grants through the PY 2020 Funding Opportunity Announcement (FOA) for the NFJP Career Services and Training grants and Housing grants. The allotments are based on the funds appropriated in the Further Consolidated Appropriations Act, 2020, Public Law 116-94 (from this point forward will be referred to as the “the Act”). In appropriating these funds, Congress provided $85,229,000 for Career Services and Training grants; $6,122,000 for Housing grants; and $545,000 for discretionary purposes. Included below is the table listing the PY 2020 allotments for the NFJP Career Services and Training grants. Individual grants are awarded for Housing as a result of the grants competition and are further distributed according to language in the appropriations law requiring that of the total amount available, not less than 70 percent shall be allocated to permanent housing activities, leaving not more than 30 percent to temporary housing activities.

II. Description of Data Files and Review of PY 2018 Modifications to the Allotment Formula

As with all state planning estimates since 1999, the PY 2020 estimates are based on four data sources: (1) State-level, 2012 hired farm labor expenditure data from the United States Department of Agriculture's (USDA) Census of Agriculture (COA); (2) regional-level, 2012 average hourly earnings data from the USDA's Farm Labor Survey; (3) regional-level, 2006-2014 demographic data from the ETA's National Agricultural Workers Survey (NAWS); and, (4) 2010-2014 (5-year file) Lower Living Standard Income Level data from the United States Census Bureau's American Community Survey. A detailed description of how each data source is used within the formula is in the May 19, 1999 FR (pages 27396 to 27399).

Two modifications were incorporated into the formula in PY 2018, and the formula for PY 2020 retains those modifications. Additional information regarding these modifications is located in the May 23, 2018 FR 83 (pages 23937 to 23940) and the July 11, 2018 FR 83 (pages 32151 to 32155).

III. Description of the Hold-Harmless Provision

For PY 2020, the Department will continue the hold-harmless provision to the allotment formula in order to allow a staged transition from the application of the previous formula to the modified formula. The hold-harmless provision provides for a stop loss/stop gain limit to transition to the use of the updated data. Due to the length of time between updates, there were significant changes for a few states, necessitating the stop loss/stop gain approach. This approach is based on a state service area's previous year's allotment percentage share, which is its relative share of the total formula allotments. The staged transition of the hold-harmless provision was implemented specifically as follows:

(1) In PY 2018, state service areas received an amount equal to 95 percent of their PY 2017 allotment percentage share, as applied to the PY 2018 formula funds available;

(2) In PY 2019, state service areas received an amount equal to 90 percent of their PY 2018 allotment percentage share, as applied to the PY 2019 formula funds available;

(3) In PY 2020, state service areas will receive an amount equal to at least 85 percent of their PY 2019 allotment percentage share, as applied to the PY 2020 formula funds available.

In PY 2019 and 2020, the hold-harmless provision also provides that no state service area will receive an amount that is more than 150 percent of their previous year's allotment percentage share.

In PY 2021, since the Department has a responsibility to use the most current and reliable data available, amounts for the new awards will be based on updated data from the sources described in Section II, pending their availability. At that time, the Department will determine whether the changes to state allotments are significant enough to warrant another hold-harmless provision. Otherwise, allotments to each state service area will be for an amount resulting from a direct allotment of the proposed funding formula without adjustment.

IV. Minimum Funding Provisions

A state area which would receive less than $60,000 by application of the formula will, at the option of the DOL, receive no allotment or, if practical, be combined with another adjacent state area. Funding below $60,000 is deemed insufficient for sustaining an independently administered program. However, if practical, a state jurisdiction which would receive less than $60,000 may be combined with another adjacent state area.

V. Program Year 2020 State Allotments

For PY 2020, ETA based estimated funding on the funding levels provided in the Act for the migrant and seasonal farmworker program, of which $85,229,000 was allotted to Career Services and Training grants and $6,122,000 was allotted to Housing grants on the basis of the formula. The state service area allotment table shows the application of the third-year (85 percent) hold-harmless and minimum funding provisions versus what was allotted in PY 2019, followed by the difference in dollar amounts from PY 2019, and the total percentage change (positive or negative).

Signed at Washington, DC.
John Pallasch
Assistant Secretary, Employment and Training Administration.

U.S. Department of Labor Employment and Training Administration National Farmworker Jobs Program—Career Services and Training Grants PY 2020 Allocations to State Service Areas
State | PY 2019 90 StopLoss/ 150 StopGain | PY 2020 85 StopLoss/ 150 StopGain | $ Difference | Difference
Total | $82,447,000 | $85,229,000 | $2,782,000 | 3.37
Alabama | 751,290 | 801,605 | 50,315 | 6.70
Alaska |  |  |  | 0.00
Arizona | 2,378,836 | 2,538,153 | 159,317 | 6.70
Arkansas | 1,072,255 | 1,144,067 | 71,812 | 6.70
California | 21,868,660 | 23,333,261 | 1,464,601 | 6.70
Colorado | 1,262,507 | 1,347,060 | 84,553 | 6.70
Connecticut | 377,130 | 402,388 | 25,258 | 6.70
Delaware | 146,081 | 155,864 | 9,783 | 6.70
Dist of Columbia |  |  |  | 0.00
Florida | 3,734,826 | 3,763,684 | 28,858 | 0.77
Georgia | 1,566,766 | 1,671,697 | 104,931 | 6.70
Hawaii | 301,846 | 322,061 | 20,215 | 6.70
Idaho | 1,666,122 | 1,777,707 | 111,585 | 6.70
Illinois | 1,637,247 | 1,746,897 | 109,650 | 6.70
Indiana | 1,073,815 | 1,145,731 | 71,916 | 6.70
Iowa | 1,488,387 | 1,588,068 | 99,681 | 6.70
Kansas | 1,143,620 | 1,220,211 | 76,591 | 6.70
Kentucky | 1,090,762 | 1,044,219 | (46,543) | −4.27
Louisiana | 820,452 | 798,040 | (22,412) | −2.73
Maine | 308,242 | 328,886 | 20,644 | 6.70
Maryland | 362,410 | 386,681 | 24,271 | 6.70
Massachusetts | 341,568 | 364,444 | 22,876 | 6.70
Michigan | 1,995,828 | 2,129,494 | 133,666 | 6.70
Minnesota | 1,527,595 | 1,629,902 | 102,307 | 6.70
Mississippi | 1,168,525 | 1,026,761 | (141,764) | 12.13
Missouri | 923,513 | 985,363 | 61,850 | 6.70
Montana | 589,076 | 628,528 | 39,452 | 6.70
Nebraska | 1,214,215 | 1,295,534 | 81,319 | 6.70
Nevada | 178,911 | 190,893 | 11,982 | 6.70
New Hampshire | 108,334 | 115,590 | 7,256 | 6.70
New Jersey | 627,196 | 602,990 | (24,206) | −3.86
New Mexico | 983,177 | 1,049,022 | 65,845 | 6.70
New York | 1,492,399 | 1,574,968 | 82,569 | 5.53
North Carolina | 2,472,721 | 2,638,326 | 165,605 | 6.70
North Dakota | 776,042 | 828,016 | 51,974 | 6.70
Ohio | 1,328,722 | 1,417,710 | 88,988 | 6.70
Oklahoma | 1,146,469 | 1,007,381 | (139,088) | −12.13
Oregon | 2,293,830 | 2,447,454 | 153,624 | 6.70
Pennsylvania | 1,392,650 | 1,485,920 | 93,270 | 6.70
Puerto Rico | 2,755,037 | 2,420,800 | (334,237) | −12.13
Rhode Island | 56,902 | 60,713 | 3,811 | 6.70
South Carolina | 871,010 | 811,276 | (59,734) | −6.86
South Dakota | 572,272 | 610,598 | 38,326 | 6.70
Tennessee | 838,575 | 894,737 | 56,162 | 6.70
Texas | 6,011,223 | 5,281,950 | (729,273) | −12.13
Utah | 437,588 | 466,894 | 29,306 | 6.70
Vermont | 174,107 | 185,768 | 11,661 | 6.70
Virginia | 939,663 | 1,002,595 | 62,932 | 6.70
Washington | 4,234,704 | 4,518,313 | 283,609 | 6.70
West Virginia | 176,865 | 155,408 | (21,457) | −12.13
Wisconsin | 1,536,848 | 1,639,775 | 102,927 | 6.70
Wyoming | 230,181 | 245,597 | 15,416 | 6.70

[FR Doc. 2020-09060 Filed 4-28-20; 8:45 am]

BILLING CODE 4510-FN-P